ENVIRONMENTAL PROTECTION AGENCY

[EPA-HQ-OPP-2018-0563; FRL-9982-36]

General Dynamics Information Technology; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to General Dynamics Information Technology in accordance with the CBI regulations. General Dynamics Information Technology has been awarded multiple contracts to perform work for OPP, and access to this information will enable General Dynamics Information Technology to fulfill the obligations of the contract.

DATES: General Dynamics Information Technology will be given access to this information on or before September 4, 2018.

FOR FURTHER INFORMATION CONTACT: William Northern, Information Technology and Resources Management Division (7502P), Office of Pesticide Programs, Environmental Protection Agency, 1200 Pennsylvania Ave. NW, Washington, DC 20460-0001; telephone number: (703) 305-6478 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2018-0563, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

The Contractor shall provide progress reporting monitoring performance and finances associated with this task order. The Technical and Quality Assurance Progress Report shall provide a general outline of the effort, state the percentage of work completed for the Task Order during the reporting period, and relate it to the overall effort.

This performance work statement (PWS) does not provide specific details on the types of solutions to be offered or the comprehensiveness of any specific solutions. However, the government requires the contractor to offer comprehensive solutions that (1) are based on an understanding of the current EPA IT infrastructure and the systems engineering, remote sensing and GIS environments, (2) provide the scope and breadth of remote sensing and Geographic Information System (GIS) services responsive to present and future needs of EPA, ORD, and partner user communities, (3) ensure an appropriate level of security based on government regulations, agency requirements, and industry best practices, and (4) meet performance levels or metrics associated with specific areas.

The Contractor shall prepare a Quality Management Plan (QMP) describing the technical approach, organizational resources and management controls to be employed to meet the cost, performance and schedule requirements throughout task order execution. The contractor shall employ a program management structure to ensure the efficient execution of all tasks and subtasks, and the capability to report on the status of work performed. The contractor shall use a single point of contact (POC) for all matters regarding project administration and reporting.

This contract will involve no subcontractors.

OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contracts with General Dynamics Information Technology prohibits use of the information for any purpose not specified in these contracts; prohibits disclosure of the information to a third party without prior written approval from the Agency; and requires that each official and employee of the contractor sign an agreement to protect the information from unauthorized release and to handle it in accordance with the FIFRA Information Security Manual. In addition, General Dynamics Information Technology is required to submit for EPA approval a security plan under which any CBI will be secured and protected against unauthorized release or compromise. No information will be provided to General Dynamics Information Technology until the requirements in this document have been fully satisfied. Records of information provided to General Dynamics Information Technology will be maintained by EPA Project Officers for these contracts. All information supplied to General Dynamics Information Technology by EPA for use in connection with these contracts will be returned to EPA when General Dynamics Information Technology has completed its work.

Authority: 7 U.S.C. 136 et seq.; 21 U.S.C. 301 et seq.

Dated: August 14, 2018.
Delores Barber,
Director, Information Technology and Resources Management Division, Office of Pesticide Programs.

[FR Doc. 2018-18753 Filed 8-28-18; 8:45 am]

BILLING CODE 6560-50-P